DEPARTMENT OF TRANSPORTATION

Federal Aviation Administration

14 CFR Part 39

[Docket No. FAA-2014-0053; Directorate Identifier 2013-NM-174-AD; Amendment 39-18047; AD 2014-25-05]

RIN 2120-AA64

Airworthiness Directives; The Boeing Company Airplanes

AGENCY: Federal Aviation Administration (FAA), DOT.

ACTION: Final rule.

SUMMARY: We are adopting a new airworthiness directive (AD) for certain The Boeing Company Model 777 airplanes. This AD was prompted by reports of corroded, migrated, or broken spring pins of the girt bar floor fitting; in one case the broken pins prevented a door escape slide from deploying during a maintenance test. This AD requires replacing the existing spring pins at each passenger entry door at both girt bar floor fittings with new spring pins. We are issuing this AD to prevent broken or migrated spring pins of the girt bar floor fittings, which could result in improper deployment of the escape slide/raft and consequent delay and injury during evacuation of passengers and crew from the cabin in the event of an emergency.

DATES: This AD is effective January 16, 2015.

The Director of the Federal Register approved the incorporation by reference of a certain publication listed in this AD as of January 16, 2015.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, Washington. For information on the availability of this material at the FAA, call 425-227-1221.

Examining the AD Docket

You may examine the AD docket on the Internet at http://www.regulations.gov by searching for and locating Docket No. FAA-2014-0053; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Ana Martinez Hueto, Aerospace Engineer, Cabin Safety and Environmental Systems Branch, ANM-150S, FAA, Seattle Aircraft Certification Office (ACO), 1601 Lind Avenue SW., Renton, WA 98057-3356; phone: 425-917-6592; fax: 425-917-6591; email: ana.m.hueto@faa.gov.

SUPPLEMENTARY INFORMATION:

Discussion

We issued a notice of proposed rulemaking (NPRM) to amend 14 CFR part 39 by adding an AD that would apply to certain The Boeing Company Model 777 airplanes. The NPRM published in the Federal Register on February 6, 2014 (79 FR 7103). The NPRM was prompted by reports of corroded, migrated, or broken spring pins of the girt bar floor fitting; in one case the broken pins prevented a door escape slide from deploying during a maintenance test. The NPRM proposed to require replacing the existing spring pins at each passenger entry door at both girt bar floor fittings with new spring pins. We are issuing this AD to prevent broken or migrated spring pins of the girt bar floor fittings, which could result in improper deployment of the escape slide/raft and consequent delay and injury during evacuation of passengers and crew from the cabin in the event of an emergency.

Revised Service Information

Since publication of the NPRM (79 FR 7103, February 6, 2014), Boeing has issued Service Bulletin 777-52A0050, Revision 1, dated August 7, 2014. That revision states that no more work is necessary on airplanes changed in accordance with the original issue (Boeing Alert Service Bulletin 777-52A0050, dated June 18, 2013), which was specified as the appropriate source of service information in the NPRM.

We have changed paragraphs (c) and (g) of this AD to specify Boeing Service Bulletin 777-52A0050, Revision 1, dated August 7, 2014; added a new paragraph (h) to this AD to give credit for actions done before the effective date of this AD using Boeing Alert Service Bulletin 777-52A0050, dated June 18, 2013; and redesignated subsequent paragraphs accordingly.

Comments

We gave the public the opportunity to participate in developing this AD. The following presents the comments received on the NPRM (79 FR 7103, February 6, 2014) and the FAA's response to each comment.

Request To Change Compliance Time

Boeing asked that we change the compliance time in paragraph (g) of the NPRM (79 FR 7103, February 6, 2014) from 36 months to 1,175 days. Boeing stated that 1,175 days (3 years, 80 days) is consistent with the compliance time specified in Boeing Alert Service Bulletin 777-52A0050, dated June 18, 2013. Boeing noted that this compliance time encompasses the 777 maintenance planning document C-check inspection interval of 1,125 days (3 years, 30 days) for structural items. Boeing added that this change is not significant.

American Airlines (AA) asked that we change the compliance time to match the Maintenance Review Board (MRB) limit of 1,125 days, which would allow AA's maintenance to be scheduled at regular maintenance visits without any undue burden on current flight schedules.

We agree with changing the compliance time to coincide with regular maintenance inspection intervals. However, instead of specifying 1,175 days, we worked in conjunction with Boeing to determine that a 37-month compliance time is appropriate. We have changed paragraph (g) of this AD accordingly.

Request To Limit Parts Installation Prohibition

Delta Airlines (Delta) asked that we revise paragraph (h) of the NPRM (79 FR 7103, February 6, 2014), which is paragraph (i) of this AD, to prohibit installation of the specified spring pins only in the locations being addressed by this AD. Delta stated that this clarification would allow the use of part number (P/N) MS39086-261 or P/N MS16562-252 in locations not subject to the actions in the NPRM. Delta added that the proposed language would prevent the use of these pins anywhere on the applicable Model 777 airplanes.

We agree to specify the location on the airplane where installation of the spring pins is prohibited. We have changed paragraph (i) of this AD accordingly.

Request To Revise Parts Installation Prohibition to Pertain to Unmodified Airplanes Only

AA asked that we prohibit installation of spring pins only on airplanes modified in accordance with Boeing Service Bulletin 777-52A0050, Revision 1, dated August 7, 2014, and allow installation of the spring pins on unmodified airplanes. AA added that the Boeing Model 777 Illustrated Parts Catalog (IPC) currently identifies spring pins having P/N MS16562-252 as valid parts for installation on unmodified airplanes. AA added that, since the analysis of broken spring pins has shown that they have failed due to stress corrosion, it should be acceptable to install a new pin in an unmodified airplane because the airplane will be modified within a set amount of time.

We do not agree to allow installation of the spring pins having part number MS39086-261 or MS16562-252 on unmodified airplanes. In general, once we have determined that an unsafe condition exists, we do not allow that condition to be introduced into the fleet. In developing the technical information on which every AD is based, we consider the availability of replacement parts that the AD will require to be installed. Since we have determined that replacement parts are available to operators, this AD prohibits installation of the unsafe parts. We have not changed this AD in this regard.

Request To Define Configuration/Parts Control

Singapore Airlines asked for an explanation of how Boeing ensures that the affected spring pins are not delivered to operators since the girt bar assembly includes the spring pins.

FedEx asked that we revise the NPRM (79 FR 7103, February 6, 2014) either to specifically state that no reidentification of the floor fitting assemblies is required, or to provide a specific reidentification process. FedEx Express also asked that the issue of parts identification as specified in the referenced service information (Boeing Alert Service Bulletin 777-52A0050, dated June 18, 2013), be resolved. FedEx noted “a vague requirement” to identify accomplishment of the service bulletin on the part but there are no specific instructions. FedEx stated this could result in the part being inadvertently returned to a pre-modification condition. FedEx recognized that ensuring compliance lies in the control of the spring pins, not the floor fitting assemblies. FedEx stated that there is no value added by identifying the part after the change is made because Boeing did not provide a step in the Work Instructions with a location to apply this identification.

We acknowledge the commenter's concerns. Since issuance of the NPRM (79 FR 7103, February 6, 2014), Boeing has updated its IPC and Boeing Service Bulletin 777-52A0050, Revision 1, dated August 7, 2014, to clarify appropriate parts installation. In addition, Boeing Service Bulletin 777-52A0050, Revision 1, dated August 7, 2014, includes Work Instructions for applying the part identification. We have not changed this AD in this regard.

Concern Regarding Parts Availability

FedEx expressed concern about the ability of operators to obtain the required parts since Boeing currently restricts the part's availability. FedEx noted that it has an adequate supply.

We consider the compliance times in this AD to be adequate to allow operators to acquire parts to have on hand for replacing the affected spring pins. Therefore, we have determined that, due to the safety implications and consequences associated with corroded, migrated, or broken spring pins, the existing pins must be replaced within 37 months after the effective date of this AD. We have not changed this AD regarding this issue.

Conclusion

We reviewed the relevant data, considered the comments received, and determined that air safety and the public interest require adopting this AD with the changes described previously, except for minor editorial changes. We have determined that these minor changes:

• Are consistent with the intent that was proposed in the NPRM (79 FR 7103, February 6, 2014) for correcting the unsafe condition; and

• Do not add any additional burden upon the public than was already proposed in the NPRM (79 FR 7103, February 6, 2014).

We also determined that these changes will not increase the economic burden on any operator or increase the scope of this AD.

Costs of Compliance

We estimate that this AD affects 189 airplanes of U.S. registry.

We estimate the following costs to comply with this AD:

Estimated Costs
Action | Labor cost | Parts cost | Cost per product | Cost on U.S. operators
Replacement | Up to 40 work-hours × $85 per hour = Up to $3,400 | $0 | Up to $3,400 | Up to $642,600.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-25-05 The Boeing Company: Amendment 39-18047 ; Docket No. FAA-2014-0053; Directorate Identifier 2013-NM-174-AD.

(a) Effective Date

This AD is effective January 16, 2015.

(b) Affected ADs

None.

(c) Applicability

This AD applies to The Boeing Company Model 777-200, -200LR, -300, -300ER, and 777F series airplanes, certificated in any category, as identified in Boeing Service Bulletin 777-52A0050, Revision 1, dated August 7, 2014.

(d) Subject

Air Transport Association (ATA) of America Code 52, Doors.

(e) Unsafe Condition

This AD was prompted by reports of corroded, migrated, or broken spring pins of the girt bar floor fitting; in one case the broken pins prevented a door escape slide from deploying during a maintenance test. We are issuing this AD to prevent broken or migrated spring pins of the girt bar floor fittings, which could result in improper deployment of the escape slide/raft and consequent delay and injury during evacuation of passengers and crew from the cabin in the event of an emergency.

(f) Compliance

Comply with this AD within the compliance times specified, unless already done.

(g) Spring Pin Replacement

Within 37 months after the effective date of this AD: Replace the spring pin at both girt bar floor fittings at each passenger entry door with a new spring pin, in accordance with the Accomplishment Instructions of Boeing Service Bulletin 777-52A0050, Revision 1, dated August 7, 2014.

(h) Credit for Previous Actions

This paragraph provides credit for the action specified in paragraph (g) of this AD, if that action was performed before the effective date of this AD using Boeing Alert Service Bulletin 777-52A0050, dated June 18, 2013, which is not incorporated by reference in this AD.

(i) Parts Installation Prohibition

As of the effective date of this AD, no person may install a spring pin having part number MS39086-261 or MS16562-252 at a girt bar floor fitting at a passenger entry door on any airplane.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane.

(k) Related Information

(1) For more information about this AD, contact Ana Martinez Hueto, Aerospace Engineer, Cabin Safety and Environmental Systems Branch, ANM-150S, FAA, Seattle Aircraft Certification Office (ACO), 1601 Lind Avenue SW., Renton, WA 98057-3356; phone: 425-917-6592; fax: 425-917-6591; email: ana.m.hueto@faa.gov.

(2) Service information identified in this AD that is not incorporated by reference is available at the addresses in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 777-52A0050, Revision 1, dated August 7, 2014.

(ii) Reserved.

(3) For service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, WA, on November 28, 2014.
John P. Piccola, Jr.,
Acting Manager, Transport Airplane Directorate, Aircraft Certification Service.

[FR Doc. 2014-28916 Filed 12-11-14; 8:45 am]

BILLING CODE 4910-13-P